DEPARTMENT OF THE INTERIOR

National Park Service

Notice of Inventory Completion: American Museum of Natural History, New York, NY

AGENCY: National Park Service, Interior.

ACTION: Notice.

Notice is here given in accordance with the Native American Graves Protection and Repatriation Act (NAGPRA), 25 U.S.C. 3003, of the completion of an inventory of human remains in the possession of the American Museum of Natural History, New York, NY. The human remains were removed from the Pueblo of San Marcos, Santa Fe County, NM.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by American Museum of Natural History professional staff in consultation with representatives of the Pueblo of Cochiti, New Mexico; Pueblo of Laguna, New Mexico; and Pueblo of Santo Domingo, New Mexico.

In 1915, human remains representing a minimum of five individuals were collected from Pueblo San Marcos, 3-3.5 miles northeast of Cerrillos, on the northern bank of San Marcos Canyon, in the Galisteo Basin, Santa Fe County, NM, by Nels C. Nelson on behalf of the American Museum of Natural History. No known individuals were identified. No associated funerary objects are present.

The individuals have been identified as Native American based on historic information that suggests that the inhabitants of San Marcos migrated to Cochiti, Laguna, and Santo Domingo Pueblos. San Marcos Pueblo was occupied until 1680. One group of San Marcos villagers, along with Tano from the Galisteo Basin, occupied Santa Fe following the Pueblo Revolt of 1680. In 1706, Vargas resettled villagers from Galisteo Pueblo, San Marcos, and Cienega Pueblo in the previously abandoned Galisteo Pueblo. In 1793 epidemics and hostile attacks forced the survivors of this resettlement to move to Santo Domingo Pueblo. By about 1682 another group that originated from San Marcos joined with the Cochiti and San Felipe peoples at La Cieneguilla, a mesa-top refuge site. Some migrants from San Marcos who took refuge at La Cienguilla migrated to Laguna and others appear to have moved with the Cochiti migrants to present-day Cochiti Pueblo.

Officials of the American Museum of Natural History have determined that, pursuant to 25 U.S.C. 3001 (9-10), the human remains described above represent the physical remains of five individuals of Native American ancestry. Officials of the American Museum of Natural History also have determined that, pursuant to 25 U.S.C. 3001 (2), there is a relationship of shared group identity that can be reasonably traced between the Native American human remains and the Pueblo of Cochiti, New Mexico; Pueblo of Laguna, New Mexico; and Pueblo of Santo Domingo, New Mexico.

Representatives of any other Indian tribe that believes itself to be culturally affiliated with the human remains should contact Nell Murphy, Director of Cultural Resources, American Museum of Natural History, Central Park West at 79th Street, New York, NY 10024-5192, telephone (212) 769-5837, before July 1, 2005. Repatriation of the human remains to the Pueblo of Cochiti, New Mexico; Pueblo of Laguna, New Mexico; and Pueblo of Santo Domingo, New Mexico may proceed after that date if no additional claimants come forward.

The American Museum of Natural History is responsible for notifying the Pueblo of Cochiti, New Mexico; Pueblo of Laguna, New Mexico; and Pueblo of Santo Domingo, New Mexico that this notice has been published.

Dated: May 20, 2005
Paul Hoffman,
Deputy Assistant Secretary, Fish and Wildlife and Parks.

[FR Doc. 05-10811 Filed 5-31-05; 8:45 am]

BILLING CODE 4312-50-S